DEPARTMENT OF COMMERCE

National Oceanic and Atmospheric Administration

[I.D. 010507A]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Controlled Access Committee in Charleston, SC.

DATES: The meeting will take place January 23-24, 2007. See SUPPLEMENTARY INFORMATION for specific dates and times.

ADDRESSES: The meeting will be held at the Embassy Suites Hotel Airport/Convention, 5055 International Boulevard, North Charleston, SC 29418; telephone: (800) 362-2779 or (843) 747-1882; fax: (843) 725-1300.

Council address: South Atlantic Fishery Management Council, 4055 Faber Place Drive, Suite 201, North Charleston, SC 29405.

FOR FURTHER INFORMATION CONTACT: Kim Iverson, Public Information Officer; telephone: (843) 571-4366 or toll free (866) SAFMC-10; fax: (843) 769-4520; email: kim.iverson@safmc.net.

SUPPLEMENTARY INFORMATION: Members of the Controlled Access Committee will meet from 1 p.m. to 5 p.m. on January 23, 2007, and from 8:30 a.m. to 3 p.m. on January 24, 2007. The meeting is being convened to address issues relevant to the Council's consideration of implementing a Limited Access Privilege Program (LAP) for the commercial snapper grouper fishery in the South Atlantic region.

Items for discussion at the meeting include: (1) Review of the revised Sustainable Fisheries Act and implications for LAPs; (2) Presentations on the experiences of other LAPs and their success and drawbacks; (3) Development of LAP program goals and objectives for the snapper grouper fishery in the South Atlantic; (4) Creation of an advisory panel to help address LAP issues; and (5) Review and approval of an action plan.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Note: The times and sequence specified in this agenda are subject to change.

Special Accommodations

These meetings are physically accessible to people with disabilities. Requests for auxiliary aids should be directed to the Council office (see ADDRESSES) 3 days prior to the meetings.

Dated: January 5, 2007.
Tracey L. Thompson,
Acting Director, Office of Sustainable Fisheries, National Marine Fisheries Service.

[FR Doc. E7-129 Filed 1-9-07; 8:45 am]

BILLING CODE 3510-22-S